DEPARTMENT OF COMMERCE

International Trade Administration

[Application No. 85-16A18]

Export Trade Certificate of Review

ACTION: Notice of Application (#85-16A18) to Amend the Export Trade Certificate of Review Issued to U.S. Shippers Association, Application No. 85-00018.

SUMMARY: The Export Trading Company Affairs unit, Office of Competition and Economic Analysis, International Trade Administration, U.S. Department of Commerce, has received an application to amend an Export Trade Certificate of Review (“Certificate”). This notice summarizes the proposed amendment and requests comments relevant to whether the amended Certificate should be issued.

FOR FURTHER INFORMATION CONTACT: Joseph E. Flynn, Director, Office of Competition and Economic Analysis, International Trade Administration, (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential. An original and five (5) copies, plus two (2) copies of the nonconfidential version, should be submitted no later than 20 days after the date of this notice to: Export Trading Company Affairs, International Trade Administration, U.S. Department of Commerce, Room 7021X, Washington, DC 20230, or transmitted by E-mail to oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 85-16A18.”

The original Certificate for U.S. Shippers Association was issued on June 3, 1986 (51 FR 20873, June 9, 1986) and last amended on December 16, 2008 (73 FR 78291, December 22, 2008). A summary of the current application for an amendment follows.

Summary of the Application

Applicant: U.S. Shippers Association (“USSA”), 3715 East Valley Drive, Missouri City, Texas 77459.

Contact: John S. Chinn, Telephone: (734) 927-4328.

Application No.: 85-16A18.

Date Deemed Submitted: May 7, 2010.

Proposed Amendment: USSA seeks to amend its Certificate to reflect the following changes:

1. Add the following new Members of the Certificate within the meaning of section 325.2(1) of the Regulations (15 CFR 325.2(1)): Sekisui Specialty Chemicals America, LLC, Dallas, TX (controlling entity: Sekisui America Corporation, Mt. Laurel, NJ); Thomas M. Johnson, Park Ridge, NJ.

2. USSA also seeks to add Cray Valley USA, LLC, Exton, PA (controlling entity: TOTAL Holdings USA, Inc., Houston, TX) and Sartomer USA, LLC, Exton, PA (controlling entity: TOTAL Holdings USA, Inc., Houston, TX) as new Members of the Certificate within the meaning of section 325.2(1) of the Regulations (15 CFR 325.2(1)). These two entities are the surviving entities following a reorganization of Sartomer Company, Inc., Exton, PA (previously a Member of USSA's Certificate).

3. Delete the following Members from USSA's Certificate: Atotech USA, Inc., Rockhill, SC; Bostik, Inc., Wauwatosa, WI; Cook Composites and Polymers Co., Kansas City, MO; Hutchinson FTS, Inc., Troy, MI; Paulstra CRC Corporation, Grand Rapids, MI; TOTAL Lubricants USA, Inc., Linden, NJ; TOTAL PETROCHEMICALS USA, INC., Houston, TX; Carrie M. Bowden, Missouri City, TX; Dawn K. Peterson, Katy, TX; Sartomer Company, Inc., Exton, PA.

Dated: May 14, 2010.
Joseph E. Flynn,
Director, Office of Competition and Economic Analysis.

[FR Doc. 2010-12066 Filed 5-14-10; 8:45 am]

BILLING CODE 3510-DR-P